DEPARTMENT OF AGRICULTURE

National Institute of Food and Agriculture

7 CFR Part 3430

RIN 0524-AA58

Competitive and Noncompetitive Non-Formula Federal Assistance Programs—General Award Administrative Provisions and Specific Administrative Provisions

AGENCY: National Institute of Food and Agriculture, USDA.

ACTION: Interim rule and request for comments.

SUMMARY: The National Institute of Food and Agriculture (NIFA) is publishing program-specific administrative provisions for the following Federal assistance programs: Agriculture and Food Research Initiative (AFRI) as subpart G; the Organic Agriculture Research and Extension Initiative (OREI); and the Integrated Research, Education, and Extension Competitive Grants Program (406), to supplement the Competitive and Noncompetitive Non-formula Federal Assistance Programs—General Award Administrative Provisions for these programs. Section 7406 of the Food, Conservation, and Energy Act of 2008 (FCEA or the “2008 Farm Bill”) amended section 2(b) of the Act of August 4, 1965, Competitive, Special, and Facilities Research Grant Act, to authorize the Agriculture and Food Research Initiative (AFRI) to provide funding for fundamental and applied research, extension, and education to address food and agricultural sciences. The Organic Agriculture Research and Extension Initiative is authorized under section 1672B of the Food, Agriculture, Conservation, and Trade Act of 1990 (FACT Act), as amended by FCEA. The Integrated Research, Education, and Extension, Competitive Grants Program is authorized under section 406 of the Agricultural Research, Extension, and Education Reform Act of 1998, as amended by FCEA.

DATES: This interim rule becomes effective on September 9, 2010. The Agency must receive comments on or before November 8, 2010.

ADDRESSES: You may submit comments, identified by RIN 0524-AA58, by any of the following methods:

Federal eRulemaking Portal: http://www.regulations.gov. Follow the instructions for submitting comments.

E-mail: RFP-OEP@nifa.usda.gov. Include Regulatory Information Number (RIN) number 0524-AA58 in the subject line of the message.

Fax: 202-401-7752.

Mail: paper, disk or CD-ROM submissions should be submitted to National Institute of Food and Agriculture; U.S. Department of Agriculture; STOP 2299; 1400 Independence Avenue, SW., Washington, DC 20250-2299.

Hand Delivery/Courier: National Institute of Food and Agriculture; U.S. Department of Agriculture; Room 2258, Waterfront Centre; 800 9th Street, SW., Washington, DC 20024.

Instructions: All submissions received must include the agency name and the RIN for this rulemaking. All comments received will be posted without change to http://www.regulations.gov, including any personal information provided.

FOR FURTHER INFORMATION CONTACT: Ellen Danus, Chief, Policy and Oversight Branch, Office of Extramural Programs, National Institute of Food and Agriculture, U.S. Department of Agriculture, STOP 2299, 1400 Independence Avenue, SW., Washington, DC 20250-2299; Voice: 202-205-5667; Fax: 202-401-7752; E-mail: edanus@nifa.usda.gov.

SUPPLEMENTARY INFORMATION:

I. Background and Summary

Authority

This rulemaking is authorized by section 1470 of the National Agricultural Research, Extension, and Teaching Policy Act of 1977 (NARETPA), as amended, Public Law 95-113 (7 U.S.C. 3316). Section 7406 of the Food, Conservation, and Energy Act of 2008 (FCEA) (Pub. L. 110-246) amended section 2(b) of the Competitive, Special, and Facilities Research Grant Act (7 U.S.C. 450i(b)) to authorize the Agriculture and Food Research Initiative (AFRI) to provide funding for fundamental and applied research, extension, and education to address food and agricultural sciences. The Organic Agriculture Research and Extension Initiative is authorized under section 1672B of the Food, Agriculture, Conservation, and Trade Act OF 1990 (FACT Act), as amended by FCEA (7 U.S.C. 5925b). The Integrated Research, Education, and Extension Competitive Grants Program is authorized under section 406 of the Agricultural Research, Extension, and Education Reform Act of 1998, as amended by FCEA (7 U.S.C. 7626).

Organization of 7 CFR Part 3430

A primary function of NIFA is the fair, effective, and efficient administration of Federal assistance programs implementing agricultural research, education, and extension programs. The awards made under the above authorities are subject to the NIFA assistance regulations at 7 CFR part 3430, Competitive and Noncompetitive Non-formula Federal Assistance Programs. NIFA's development and publication of these regulations for its non-formula Federal assistance programs serve to enhance its accountability and to standardize procedures across the Federal assistance programs it administers while providing transparency to the public. NIFA published 7 CFR part 3430 with subparts A through F as a final rule on September 4, 2009 [74 FR 45736-45752]. These regulations apply to all Federal assistance programs administered by NIFA except for the formula grant programs identified in 7 CFR 3430.1(f), the Small Business Innovation Research programs with implementing regulations at 7 CFR part 3403, and the Veterinary Medicine Loan Repayment Program (VMLRP) regulations at 7 CFR 3431.

NIFA organized the regulation as follows: Subparts A through E provide administrative provisions for all competitive and noncompetitive non-formula Federal assistance programs. Subparts F and thereafter apply to specific NIFA programs.

NIFA is, to the extent practical, using the following subpart template for each program authority: (1) Applicability of regulations, (2) purpose, (3) definitions (those in addition to or different from 3430.2), (4) eligibility, (5) project types and priorities, (6) funding restrictions, and (7) matching requirements. Subparts F and thereafter contain the above seven components in this order. Additional sections may be added for a specific program if there are additional requirements or a need for additional rules for the program (e.g., additional reporting requirements). Through this rulemaking, NIFA is adding subparts G, H, and I for the administrative provisions that are specific to the AFRI, OREI, and 406.

Solicitation of Stakeholder Input and Development of Subparts G, H, and I

NIFA has been administering the 406 programs for almost 10 years. Under this authority, the integration of research, education, and extension is achieved at the program level. Integration at the program level indicates that the program offers opportunities in that fiscal year for integrated projects, along with single function projects in research, education, or extension, which together achieve stated program goals. Integrated projects incorporate at least two of the three components of the agricultural knowledge system (i.e., research, education, and extension) within a project, bringing them together around a problem or activity. Consequently, NIFA has adopted the definitions of “integrated programs” and “integrated projects” under Subpart I. For the OREI program, an integrated project incorporates only the research and extension components as the OREI authority applies only to these components. Both subparts H and I include the standard elements of a subpart including applicability, purpose, definitions, eligibility, project types and priorities, funding restrictions, and matching requirements. Although NIFA has not administered the OREI program as long as the 406 programs, it has a well-established grants cycle and Request for Applications (RFA) process.

While the 406 and OREI programs had been administered by NIFA for a number of years, NIFA implemented (AFRI) in FY 2009. AFRI combines the former National Research Initiative (NRI) and the Initiative for Future Agriculture and Food Systems (IFAFS) programs. AFRI is the new core competitive grant program for research, education, and extension in USDA. With the enactment of the 2008 Farm Bill, the NRI and IFAFS program authorities have been repealed. Subpart G for AFRI includes the standard elements of a subpart as identified above, as well as certain statutory and administrative requirements for the program. The regulations for the NRI program were codified at 7 CFR Part 3411 and were implemented prior to the Government-wide and Agency efforts to standardize and streamline Federal assistance policies and procedures. Consequently, 7 CFR 3411 incorporates many more elements that are now addressed in 7 CFR 3430 Subparts A through E. Subpart G addresses only those aspects of the grant program that are unique to AFRI.

To implement AFRI and to draft subpart G, NIFA sought to solicit stakeholder input in the development and implementation of AFRI. Consequently, NIFA published a Federal Register Notice on August 29, 2008 [73 FR 50926-50928], soliciting written stakeholder input comments on the implementation of the AFRI and announcing a public meeting to solicit additional input. Approximately 40 people attended this session. NIFA also received written comments by telephone, e-mail, and fax in response to the Federal Register announcement. In all, stakeholder input was received from: American Soybean Association; American Forest and Paper Association; American Peanut Council; American Phytopathological Society; American Society for Nutrition; Agronomy Society of America; Crop Science Society of America; Soil Science Society of America; Association of Southern Region Extension Directors; BASF Plant Science LLC; California Certified Organic Farmers; Council on Food, Agricultural and Resource Economics; National Organic Coalition; Experiment Station Committee on Organization and Policy; Heron's Nest Farm; Institute of Food Technologies; Kentucky Farm Bureau; Michael Fields Agricultural Institute; National Association of Plant Breeders; National Association of State Universities and Land Grant Colleges (NASULGC); NASULGC Board on Human Sciences; National Association of Wheat Growers; National Coalition for Food and Agricultural Research; Nourse Farms; Organic Farmers' Agency for Relationship Marketing, Inc.; Sustainable Agriculture Coalition; Union of Concerned Scientists; Washington State Potato Commission; Western Association of Agricultural Experiment Station Directors; university faculty and several individuals. This list includes several community-based organizations, professional organizations, universities, farms, small businesses, and others.

Many stakeholders recognized a need and supported increased investments in plant and animal breeding. Many breeding objectives are targeting regional to local conditions and are not supported by commercial breeders. NIFA feels this is a clear role for competitive Federal support. Based on stakeholder input, NIFA has included an emphasis on plant and animal breeding within the program and this is reflected in the FY 2010 Request for Applications (RFA).

During the stakeholder comment period, there was additional discussion of the value of making awards for up to 10 years as provided in the legislation. Several areas were identified where awards of this length could expand the ability of the program to achieve substantial goals. For example, longer awards would allow for the full development of new plant varieties in breeding programs. Studies of nutrition would be more valuable if the improvements in nutrition and health could be studied over a longer term to determine if the benefits observed could be sustained. The FY 2010 RFAs provide opportunities for up to 5-year duration on awards (with opportunity for up to 2 additional years of no-cost extension). NIFA is reviewing this authority, along with the 10-year authority available for the Specialty Crop Research Initiative (authorized under section 412 of the Agricultural Research, Extension, and Education Reform Act of 1998), and working to implement the 10-year authority for these programs.

To accomplish identified program goals, many stakeholders pointed out that it may be effective to make single function awards (i.e., research, education, and extension). Clearly there are cases where, to meet national workforce needs, education programs are needed. Similarly, when there are issues that can be resolved by directly engaging farmers and others, extension programs may be appropriate. Based on these stakeholder recommendations, NIFA has included education- and extension-only program priorities. For the FY 2010 RFA, NIFA also solicited proposals for integrated projects (that combine research, education and/or extension).

There will be a continuous process in soliciting and considering stakeholder input for the AFRI program; and ongoing stakeholder input will continue to be encouraged. All stakeholder input received has been made available at http://www.regulations.gov under CSREES_FRDOC_0001-0062 and under NIFA-2010-0001.

Timeline for Implementing Regulations

NIFA is publishing this rule as interim with a 60-day comment period and anticipates a final rule by December 31, 2010. However, in the interim, these regulations apply to the AFRI, OREI, and 406 programs.

II. Administrative Requirements for the Rulemaking

Executive Order 12866

This action has been determined to be not significant for purposes of Executive Order 12866. This interim rule will not create a serious inconsistency or otherwise interfere with an action taken or planned by another agency; nor will it materially alter the budgetary impact of entitlements, grants, user fees, or loan programs; nor will it have an annual effect on the economy of $100 million or more; nor will it adversely affect the economy, a sector of the economy, productivity, competition, jobs, the environment, public health or safety, or State, local or Tribal governments or communities in a material way. Furthermore, it does not raise a novel legal or policy issue arising out of legal mandates, the President's priorities or principles set forth in the Executive Order.

Regulatory Flexibility Act of 1980

This interim rule has been reviewed in accordance with The Regulatory Flexibility Act of 1980, as amended by the Small Business Regulatory Enforcement Fairness Act of 1996, 5 U.S.C. 601-612. The Department concluded that the rule will not have a significant economic impact on a substantial number of small entities. The rule does not involve regulatory and informational requirements regarding businesses, organizations, and governmental jurisdictions subject to regulation.

Paperwork Reduction Act (PRA)

The Department certifies that this interim rule has been assessed in accordance with the requirements of the Paperwork Reduction Act, 44 U.S.C. 3501 et seq. (PRA) The Department concludes that this interim rule does not impose any new information requirements or increase the burden hours. In addition to the SF-424 form families (i.e., Research and Related and Mandatory) and the SF-425 Federal Financial Report (FFR) No. 0348-0061, NIFA has three currently approved OMB information collections associated with this rulemaking: OMB Information Collection No. 0524-0042, NIFA Current Research Information System (CRIS) (Note that CRIS will be superceded by REEport in the fall of 2010). The Notice of Intent To Request Approval To Establish a New Information Collection was published in the Federal Register on July 12, 2010 in FR Doc 2010-16854. Comments will be accepted until September 15, 2010; please reference docket number NIFA-2010-0002); No. 0524-0041, NIFA Application Review Process; and No. 0524-0026, Assurance of Compliance with the Department of Agriculture Regulations Assuring Civil Rights Compliance and Organizational Information.

Catalog of Federal Domestic Assistance

This interim regulation applies to the following Federal assistance programs administered by NIFA including CFDA No. 10.310, Agriculture and Food Research Initiative; CFDA No. 10.307, Organic Agriculture Research and Extension Initiative; and CFDA No. 10.303, Integrated Research, Education, and Extension Competitive Grants Program.

Unfunded Mandates Reform Act of 1995 and Executive Order 13132

The Department has reviewed this interim rule in accordance with the requirements of Executive Order No. 13132 and the Unfunded Mandates Reform Act of 1995, 2 U.S.C. 1501 et seq., and has found no potential or substantial direct effects on the States, on the relationship between the national government and the States, or on the distribution of power and responsibilities among the various levels of government. As there is no Federal mandate contained herein that could result in increased expenditures by State, local, or Tribal governments, or by the private sector, the Department has not prepared a budgetary impact statement.

Clarity of This Regulation

Executive Order 12866 and the President's Memorandum of June 1, 1998, require each agency to write all rules in plain language. The Department invites comments on how to make this interim rule easier to understand.

List of Subjects in 7 CFR Part 3430

Administrative practice and procedure, Agricultural research, education, extension; Federal assistance.

Accordingly, Title 7 of the Code of Federal Regulations is amended as set forth below:

PART 3430—COMPETITIVE AND NONCOMPETITIVE NON-FORMULA FEDERAL ASSISTANCE PROGRAMS—GENERAL AWARD ADMINISTRATIVE PROVISIONS

1. The authority citation for Part 3430 continues to read as follows:

Authority: 7 U.S.C. 3316; Pub. L. 106-107 (31 U.S.C. 6101 note).

2. Add new subparts G, H, and I, to read as follows:

Subpart G—Agriculture and Food Research Initiative
Sec.
3430.300 Applicability of regulations.
3430.301 Purpose.
3430.302 Definitions.
3430.303 Eligibility.
3430.304 Project Types and priorities.
3430.305 Funding restrictions.
3430.306 Matching requirements.
3430.307 Coordination and stakeholder input requirements.
3430.308 Duration of awards.
3430.309 Priority areas.
3430.310 Allocation of AFRI funds.
3430.311 Allocation of research funds.
3430.312 Emphasis on Sustainable Agriculture.

Subpart G—Agriculture and Food Research Initiative

§ 3430.300 Applicability of regulations.

The regulations in this subpart apply to the Agriculture and Food Research Initiative (AFRI) authorized under section 2(b) of the Competitive, Special, and Facilities Research Grant Act (7 U.S.C. 450i(b)).

§ 3430.301 Purpose.

The purpose of this program is to make competitive grants for fundamental and applied research, extension, and education to address food and agricultural sciences, as defined under section 1404 of the National Agricultural Research, Extension, and Teaching Policy Act of 1977 (7 U.S.C. 3103).

§ 3430.302 Definitions.

The definitions applicable to the competitive grant programs under this subpart include:

Food and Agricultural Science Enhancement (FASE) awards means funding awarded to eligible applicants to strengthen science capabilities of Project Directors, to help institutions develop competitive scientific programs, and to attract new scientists into careers in high-priority areas of National need in agriculture, food, and environmental sciences. FASE awards may apply to any of the three agricultural knowledge components (i.e., research, education, and extension). FASE awards include Pre- and Postdoctoral Fellowships, New Investigator grants, and Strengthening grants.

Limited institutional success means institutions that are not among the most successful universities and colleges for receiving Federal funds for science and engineering research. A list of successful institutions will be provided in the RFA.

Minority means Alaskan Native, American Indian, AsianAmerican, African-American, Hispanic American, Native Hawaiian, or Pacific Islander. The Secretary will determine on a case-by-case basis whether additional groups qualify under this definition, either at the Secretary's initiative, or in response to a written request with supporting explanation.

Minority-serving institution means an accredited academic institution whose enrollment of a single minority or a combination of minorities exceeds fifty percent of the total enrollment, including graduate and undergraduate and full- and part-time students. An institution in this instance is an organization that is independently accredited as determined by reference to the current version of the Higher Education Directory, published by Higher Education Publications, Inc., 6400 Arlington Boulevard, Suite 648, Falls Church, Virginia 22042.

Multidisciplinary project means a project on which investigators from two or more disciplines collaborate to address a common problem. These collaborations, where appropriate, may integrate the biological, physical, chemical, or social sciences.

Small and mid-sized institutions means academic institutions with a current total enrollment of 17,500 or less, including graduate and undergraduate as well as full- and part-time students. An institution, in this instance, is an organization that possesses a significant degree of autonomy. Significant degree of autonomy is defined by being independently accredited as determined by reference to the current version of the Higher Education Directory, published by Higher Education Publications, Inc., 6400 Arlington Boulevard, Suite 648, Falls Church, Virginia 22042 (703-532-2300).

Strengthening grants means funds awarded to institutions eligible for FASE grants to enhance institutional capacity, with the goal of leading to future funding in the project area, as well as strengthening the competitiveness of the investigator's research, education, and/or extension activities. Strengthening grants consist of standard and Coordinated Agricultural Project (CAP) grant types as well as seed grants, equipment grants, and sabbatical grants.

USDA EPSCoR States (Experimental Program for Stimulating Competitive Research) means States which have been less successful in receiving funding from AFRI, or its predecessor, the National Research Initiative (NRI), having a funding level no higher than the 38th percentile of all States based on a 3-year rolling average of AFRI and/or NRI funding levels, excluding FASE Strengthening funds granted to EPSCoR States, and small, mid-sized, and minority-serving degree-granting institutions. The most recent list of USDA EPSCoR States will be provided in the RFA.

§ 3430.303 Eligibility.

(a) General. Unless otherwise specified in the RFA or this subpart, eligible applicants for the grant program implemented under this subpart include:

(1) State agricultural experiment stations;

(2) Colleges and universities (including junior colleges offering an associate's degree);

(3) University research foundations;

(4) Other research institutions and organizations;

(5) Federal agencies;

(6) National laboratories;

(7) Private organizations or corporations;

(8) Individuals; and

(9) Any group consisting of 2 or more entities identified in paragraphs (a)(1) through (8) of this section.

(b) Integrated projects. Eligible entities for the integrated component under this subpart include:

(1) Colleges and universities;

(2) 1994 Institutions; and

(3) Hispanic-serving agricultural colleges and universities (as defined in section 1404 of the National Agricultural Research, Extension, and Teaching Policy Act of 1977 (7 U.S.C. 3103).

(c) FASE Grants.

(1) New investigator awards. To be eligible to apply, a new investigator must be in the beginning of his/her career, without an extensive publication record, and must have less than 5 years of postgraduate, career-track experience. To be eligible to receive a grant, the new investigator may not have received competitively awarded Federal funds, with the exception of pre- or postdoctoral awards or NRI/AFRI Seed Grants. The AFRI RFA will contain specific instructions for New Investigator Grant eligibility, restrictions, and application preparation.

(2) Pre- and postdoctoral fellowships. The following eligibility requirements apply to applicants for pre- and postdoctoral fellowships.

(i) The doctoral degree of the applicant must be received not earlier than January 1 of the calendar year three years prior to the submission of the proposal and not later than nine months after the proposal due date; and

(ii) For pre-doctoral applications, the applicant must have advanced to candidacy by the application deadline.

(3) Strengthening grants. Eligibility for all strengthening categories includes:

(i) Small and mid-sized academic institutions that have had limited institutional success;

(ii) Degree-granting institutions and State agricultural experiment stations (SAES) in USDA Experimental Program for Stimulating Competitive Research (EPSCoR) states; and

(iii) Minority-serving institutions with limited institutional success.

§ 3430.304 Project Types and priorities.

For each RFA, NIFA may develop and include the appropriate types of projects and focus areas to address the needs of scientists and educators in advanced or early stages of their careers and the differences in institutional capabilities. Types of projects will be revisited periodically based on stakeholder input and as deemed appropriate by NIFA. Types of projects under AFRI include, but are not limited to, the following.

(a) Project Types.

(1) Research projects. Single-function fundamental and applied Research Projects are conducted by individual investigators, co-investigators within the same discipline, or multidisciplinary teams.

(2) Education projects. Single-function Education Projects provide funding to conduct classroom instruction, laboratory instruction, and practicum experience in the food and agricultural sciences and other related educational matters. Projects may include faculty development, student recruitment and services, curriculum development, instructional materials and equipment, and innovative teaching methods.

(3) Extension Projects. Single-function Extension Projects provide funding for programs and activities that deliver science-based knowledge and informal educational programs to people, enabling them to make practical decisions.

(4) Integrated Projects. Multifunction Integrated Projects bring together at least two of the three components of the agricultural knowledge system (i.e., research, education, and extension) around a problem or issue. The functions addressed in the project should be interwoven throughout the life of the project and act to complement and reinforce one another. The proposed research component of an Integrated Project should address knowledge gaps that are critical to the development of practices and programs to address the stated problem. The proposed education component of an Integrated Project should strengthen institutional capacities and result in curricula and related products that will be sustained beyond the life of the project. The proposed extension component of an Integrated Project should lead to measurable, documented changes in learning, actions, or conditions in an identified audience or stakeholder group. Appropriate project activities will be discussed in the RFA.

(b) Grant Types.

(1) Standard Grants. Standard Grants support targeted, original scientific Research, Education, Extension, or Integrated Projects.

(2) Coordinated Agricultural Project (CAP) Grants. A CAP is a type of Research, Education, Extension, or Integrated Project that supports large-scale multi-million dollar projects that promote collaboration, open communication, and the exchange of information; reduce duplication of effort; and coordinate activities among individuals, institutions, States, and regions. Integrated CAP grants address problems through multi-function projects that incorporate at least two of the three components of the agricultural knowledge system (i.e., research, extension and education). Please note that there occasionally may be programs in which an Integrated CAP Grant is required to address all three components of the agricultural knowledge system. In a CAP, participants serve as a team that conducts targeted research, education and/or extension in response to emerging or priority area(s) of national need. A CAP contains the needed science-based expertise in research, education, and/or extension, as well as expertise from principle stakeholders and partners, to accomplish project goals and objectives.

(3) Planning/Coordination Grants. Planning/Coordination Grants provide assistance to applicants in the development of quality future CAP applications. Applications must articulate benefits accrued from formal planning activities and provide evidence of a high likelihood that quality future applications will be submitted. These activities can take the form of workshops or symposia that bring together biological, physical, and social scientists and others as appropriate, including end-users and technology providers, to identify research, education, and/or extension needs, foster collaboration, and create networking opportunities. These events and the information they generate should be used to build teams that can develop applications to address priorities identified in the RFA.

(4) Conference grants. AFRI provides partial or total funding for a limited number of scientific meetings that bring together scientists to identify research, education, or extension needs within the scope of AFRI.

(5) FASE Grants.

(i) General. FASE Grants are designed to help institutions develop competitive Research, Education, Extension, and Integrated Projects and to attract new scientists into careers in high-priority areas in agriculture, food, and environmental sciences. The FASE grants provide funding for new investigators, pre- and postdoctoral fellowships, and strengthening grants. FASE grants will be awarded as follows:

(A) To an institution to allow for the improvement of the research, development, technology transfer, education, and extension capacity of the institution through the acquisition of special research equipment and the improvement of agricultural research, education, and extension;

(B) To single investigators or coinvestigators who are beginning research, education, or extension careers and do not have an extensive publication record;

(C) To ensure that the faculty of small, mid-sized, and minority-serving institutions who have not previously been successful in obtaining competitive grants under this subsection receive a portion of the grants; and

(D) To improve research, extension, and education capabilities in USDA EPSCoR States, as defined in § 3430.302.

(ii) Types of FASE Grants.

(A) New Investigator Grant. These awards support Project Directors who meet the eligibility criteria of § 3430.303.

(B) Pre- and Postdoctoral Fellowship Grants. Doctoral candidates and individuals who recently have received or will soon receive their doctoral degree, and meet the eligibility criteria of § 3430.303, may submit proposals for pre- and postdoctoral fellowships.

(C) Strengthening Grants. Strengthening awards consist of the following four types of grants.

(1) Strengthening Standard and CAP Grant. These grants provide funding to eligible entities, as defined in § 3430.303, who submitted meritorious Standard Grant or CAP Grant applications that were highly ranked but were below the funding line.

(2) Equipment Grant. These grants provide funding for the purchase of one major piece of equipment. The amount requested shall not exceed 50 percent of the cost of the equipment. Unless eligible for a waiver (as described in § 3430.306(b)(2)), the Project Director is responsible for securing the required non-Federal funds. No installation, maintenance, warranty, or insurance expenses may be paid from these awards, nor may these costs be part of the matching funds.

(3) Seed Grant. A Seed grant is intended to provide funds to enable investigators to collect preliminary data in preparation for applying for a Standard Research, Standard Education, Standard Extension, or Integrated Grant. The grants are not intended to fund stand-alone projects, but rather projects that will lead to further work applicable to one of the priority areas in AFRI.

(4) Sabbatical grants. A Sabbatical grant is intended to provide an opportunity for faculty to enhance their capabilities through sabbatical leaves.

§ 3430.305 Funding restrictions.

(a) Construction. Funds made available under this subpart shall not be used for the construction of a new building or facility or the acquisition, expansion, remodeling, or alteration of an existing facility (including site grading and improvement, and architect fees).

(b) Indirect costs. Subject to § 3430.54, indirect costs are allowable. However, indirect costs are not allowed on pre- and postdoctoral grants, equipment grants, or conference grants.

§ 3430.306 Matching requirements.

(a) General. Matching funds are not required as a condition of receiving grants under this subpart except as provided in paragraphs (c) and (d) of this section.

(b) Indirect costs. Use of indirect costs as in-kind matching contributions is subject to § 3430.52(b).

(c) Equipment grants.

(1) Except as provided in paragraph (c)(2) of this section, the amount of an equipment grant may not exceed 50 percent of the cost of the special research equipment or other equipment acquired using funds from the grant.

(2) Waiver. The Secretary may waive all or part of the matching requirement under paragraph (c)(1) of this section in the case of a college, university, or research foundation maintained by a college or university that ranks in the lowest ⅓ of such colleges, universities, and research foundations on the basis of Federal research funds received, if the equipment to be acquired using funds from the grant costs not more than $25,000, and has multiple uses within a single project or is usable in more than 1 project.

(d) Applied research grants. As a condition of making a grant for applied research, the Secretary shall require the funding of the grant to be matched with equal matching funds from a non-Federal source if the grant is for applied research that is:

(1) Commodity-specific; and

(2) Not of national scope.

§ 3430.307 Coordination and stakeholder input requirements.

(a) Stakeholder input. In making grants under this Part, NIFA shall solicit and consider input from persons who conduct or use agricultural research, extension, or education in accordance with section 102(b) of the Agricultural Research, Extension, and Education Reform Act of 1998 (7 U.S.C. 7612(b)).

(b) Allocation of funds to high-priority research. To the maximum extent practicable, the Secretary, in coordination with the Under Secretary, shall allocate grants under this subpart to high-priority research as defined in section 1672 of Food, Agriculture, Conservation, and Trade Act of 1990, 7 U.S.C. 5925. NIFA shall take into consideration, when available, the determinations made by the Advisory Board.

§ 3430.308 Duration of awards.

The Secretary may set award limits up to 10 years based on priorities and stakeholder input, subject to other statutory limitations. The duration of individual awards may vary as specified in the RFA and is subject to the availability of appropriations.

§ 3430.309 Priority areas.

NIFA will award competitive grants in the following areas:

(a) Plant health and production and plant products. Plant systems, including:

(1) Plant genome structure and function;

(2) Molecular and cellular genetics and plant biotechnology;

(3) Conventional breeding, including cultivar and breed development, selection theory, applied quantitative genetics, breeding for improved food quality, breeding for improved local adaptation to biotic stress and abiotic stress, and participatory breeding;

(4) Plant-pest interactions and biocontrol systems;

(5) Crop plant response to environmental stresses;

(6) Unproved nutrient qualities of plant products; and

(7) New food and industrial uses of plant products.

(b) Animal health and production and animal products. Animal systems, including:

(1) Aquaculture;

(2) Cellular and molecular basis of animal reproduction, growth, disease, and health;

(3) Animal biotechnology;

(4) Conventional breeding, including breed development, selection theory, applied quantitative genetics, breeding for improved food quality, breeding for improved local adaptation to biotic stress and abiotic stress, and participatory breeding;

(5) Identification of genes responsible for improved production traits and resistance to disease;

(6) Improved nutritional performance of animals;

(7) Improved nutrient qualities of animal products and uses; and

(8) The development of new and improved animal husbandry and production systems that take into account production efficiency, animal well-being, and animal systems applicable to aquaculture.

(c) Food safety, nutrition, and health. Nutrition, food safety and quality, and health, including:

(1) Microbial contaminants and pesticides residue relating to human health;

(2) Links between diet and health;

(3) Bioavailability of nutrients;

(4) Postharvest physiology and practices; and

(5) Improved processing technologies.

(d) Renewable energy, natural resources, and environment. Natural resources and the environment, including:

(1) Fundamental structures and functions of ecosystems;

(2) Biological and physical bases of sustainable production systems;

(3) Minimizing soil and water losses and sustaining surface water and ground water quality;

(4) Global climate effects on agriculture;

(5) Forestry; and

(6) Biological diversity.

(e) Agriculture systems and technology. Engineering, products, and processes, including:

(1) New uses and new products from traditional and nontraditional crops, animals, byproducts, and natural resources;

(2) Robotics, energy efficiency, computing, and expert systems;

(3) New hazard and risk assessment and mitigation measures; and

(4) Water quality and management.

(f) Agriculture economics and rural communities. Markets, trade, and policy, including:

(1) Strategies for entering into and being competitive in domestic and overseas markets;

(2) Farm efficiency and profitability, including the viability and competitiveness of small and medium-sized dairy, livestock, crop and other commodity operations;

(3) New decision tools for farm and market systems;

(4) Choices and applications of technology;

(5) Technology assessment; and

(6) New approaches to rural development, including rural entrepreneurship.

§ 3430.310 Allocation of AFRI funds.

(a) General. The Secretary shall decide the allocation of funds among research, education, extension, and integrated multifunctional projects in an appropriate manner and in accordance with the allocation restrictions found in this section.

(b) Integrated programs. Not less than 30 percent of funds allocated to AFRI each fiscal year shall be used to fund integrated programs.

(c) FASE awards.

(1) Each fiscal year, a percentage of AFRI funding (no less than 10 percent of the available funding) will be awarded as FASE awards. This percentage requirement may be adjusted by the Secretary based upon priorities and stakeholder input.

(2) The Secretary shall use not less than 25 percent of the funds made available for FASE grants to provide fellowships to outstanding pre- and postdoctoral students for research in the agricultural sciences.

(d) Rapid Response Food and Agricultural Science for Emergency Issues Awards. The Secretary may allocate some funding to address emergency issues in the food and agricultural sciences as determined by the Secretary. Letters of intent and applications may be requested, as appropriate. Although the solicitation and award processes may be expedited for these awards, NIFA will adhere to AFRI peer review and competitive requirements of this subpart.

§ 3430.311 Allocation of research funds.

(a) Fundamental research. Of the amount allocated by the Director for research, not less than 60 percent shall be used to make grants for fundamental research (as defined in subsection (f)(1) of section 251 of the Department of Agriculture Reorganization Act of 1994 (7 U.S.C. 6971)).

(1) Research by multidisciplinary teams. Of the amount allocated by the Director for fundamental research under this paragraph (a), not less than 30 percent shall be made available to make grants for research to be conducted by multidisciplinary teams.

(2) Equipment grants. Of the amount allocated by the Director for fundamental research under this paragraph (a) not more than 2 percent shall be used for equipment grants.

(b) Applied research. Of the amount allocated by the Director for research, not less than 40 percent shall be made available to make grants for applied research.

§ 3430.312 Emphasis on sustainable agriculture.

NIFA shall ensure that grants made under this subpart are, where appropriate, consistent with the development of systems of sustainable agriculture as defined in section 1404 of NARETPA.

Subpart H—Organic Agriculture Research and Extension Initiative
Sec.
3430.400 Applicability of regulations.
3430.401 Purpose.
3430.402 Definitions.
3430.403 Eligibility.
3430.404 Project types and priorities.
3430.405 Funding restrictions.
3430.406 Matching requirements.
3430.407 Program requirements.

Subpart H—Organic Agriculture Research and Extension Initiative

§ 3430.400 Applicability of regulations.

The regulations in this subpart apply to the program authorized under section 1672B of the Food, Agriculture, Conservation, and Trade Act of 1990 (FACT Act), as amended by the Food, Conservation, and Energy Act of 2008 (FCEA), Public Law 110-246 (7 U.S.C. 5925b).

§ 3430.401 Purpose.

(a) The purpose of this program is to make competitive grants, in consultation with the Advisory Board, to support research and extension activities regarding organically grown and processed agricultural commodities.

(b) Grants may be made for the following purposes:

(1) Facilitating the development of organic agriculture production, breeding, and processing methods;

(2) Evaluating the potential economic benefits to producers and processors who use organic methods;

(3) Exploring international trade opportunities for organically grown and processed agricultural commodities;

(4) Determining desirable traits for organic commodities;

(5) Identifying marketing and policy constraints on the expansion of organic agriculture;

(6) Conducting advanced on-farm research and development that emphasizes observation of, experimentation with, and innovation for working organic farms, including research relating to production and marketing and to socioeconomic conditions;

(7) Examining optimal conservation and environmental outcomes relating to organically produced agricultural products; and

(8) Developing new and improved seed varieties that are particularly suited for organic agriculture.

§ 3430.402 Definitions.

The definitions applicable to the competitive grant programs under this subpart include:

Integrated project means a project that incorporates the research and extension components of the agricultural knowledge system around a problem or activity.

§ 3430.403 Eligibility.

Unless otherwise specified in the RFA, eligible applicants for the grant program implemented under this subpart include:

(a) State agricultural experiment stations;

(b) Colleges and universities (including junior colleges offering an associate's degree);

(c) University research foundations;

(d) Other research institutions and organizations;

(e) Federal agencies;

(f) National laboratories;

(g) Private organizations or corporations;

(h) Individuals; and

(i) Any group consisting of 2 or more entities identified in paragraphs (a) through (i) of this section.

§ 3430.404 Project types and priorities.

For each RFA, NIFA may develop and include the appropriate project types and priority areas based on stakeholder input and as deemed appropriate by NIFA. Duration and amount of grants may vary depending on the type of project.

§ 3430.405 Funding restrictions.

(a) Construction. Funds made available for grants under this subsection shall not be used for the construction of a new building or facility or the acquisition, expansion, remodeling, or alteration of an existing building or facility (including site grading and improvement, and architect fees).

(b) Indirect costs. Subject to § 3430.54, indirect costs are allowable.

(c) Start-up businesses. NIFA does not fund start-up businesses under this subpart.

§ 3430.406 Matching requirements.

(a) In general. NIFA requires the recipient of a grant under this section to provide funds or in-kind support from non-Federal sources in an amount at least equal to the amount provided by the Federal Government.

(b) Indirect costs. Use of indirect costs as in-kind matching contributions is subject to § 3430.52(b).

(c) Waiver authority. NIFA may waive the matching requirement specified in paragraph (a) of this section with respect to a grant if NIFA determines that:

(1) The results of the project, while of particular benefit to a specific agricultural commodity, are likely to be applicable to agricultural commodities generally; or

(2) When all three of the following conditions are present:

(i) The project involves a minor commodity,

(ii) The project deals with scientifically important research, and

(iii) The grant recipient is unable to satisfy the matching funds requirement.

§ 3430.407 Program requirements.

Following the completion of a peer review process for grant proposals received under this subpart, the Director may provide a priority for those proposals, found in the peer review process to be scientifically meritorious, that involve the cooperation of multiple entities.

Subpart I—Integrated Research, Education, and Extension Competitive Grants Program
Sec.
3430.500 Applicability of regulations.
3430.501 Purpose.
3430.502 Definitions.
3430.503 Eligibility.
3430.504 Project types and priorities.
3430.505 Funding restrictions.
3430.506 Matching requirements.
3430.507 Program requirements.

Subpart I—Integrated Research, Education, and Extension Competitive Grants Program

§ 3430.500 Applicability of regulations.

The regulations in this subpart apply to the program authorized under section 406 of the Agricultural Research, Extension, and Education Reform Act of 1998 (AREERA), 7 U.S.C. 7626, as amended by the Food, Conservation, and Energy Act of 2008 (FCEA), Public Law 110-246.

§ 3430.501 Purpose.

The purpose of this subpart is to make competitive grants for integrated, multifunctional agricultural research, extension, and education activities.

§ 3430.502 Definitions.

The definitions applicable to the competitive grant programs under this subpart include:

Integrated program means a program that brings the three agricultural knowledge components (i.e., research, extension, and education) together around a problem or activity through the award of integrated projects and single component projects.

Integrated project means a project that brings at least two out of three agricultural knowledge components (i.e., research, extension, and education) together around a problem or activity.

§ 3430.503 Eligibility.

The following entities are eligible to apply for and receive a grant under this subpart:

(a) Colleges and universities;

(b) 1994 Institutions; and

(c) Hispanic-serving agricultural colleges and universities (as defined in section 1404 of the National Agricultural Research, Extension, and Teaching Policy Act of 1977 (7 U.S.C. 3103), and in the RFA).

§ 3430.504 Project types and priorities.

For each RFA, NIFA may develop and include the appropriate project types and priority areas based on stakeholder input and as deemed appropriate by NIFA, in consultation with the Advisory Board, and that involve integrated research, extension, and education activities. Duration and amount of grants may vary depending on the type of project.

§ 3430.505 Funding restrictions.

(a) Construction. Funds made available for grants under this subsection shall not be used for the construction of a new building or facility or the acquisition, expansion, remodeling, or alteration of an existing building or facility (including site grading and improvement, and architect fees).

(b) Indirect Costs. Subject to § 3430.54, indirect costs are allowable.

§ 3430.506 Matching requirements.

(a) General requirement. If a grant under this subpart provides a particular benefit to a specific agricultural commodity, the recipient of the grant is required to provide funds or in-kind support to match the amount of funds provided by NIFA.

(b) Indirect costs. Use of indirect costs as in-kind matching contributions is subject to § 3430.52(b).

(c) Waiver authority. NIFA may waive the matching requirement specified in paragraph (a) of this section with respect to a grant if NIFA determines that:

(1) The results of the project, while of particular benefit to a specific agricultural commodity, are likely to be applicable to agricultural commodities generally; or

(2) When all three of the following conditions are present:

(i) The project involves a minor commodity,

(ii) The project deals with scientifically important research, and

(iii) The grant recipient is unable to satisfy the matching funds requirement.

§ 3430.507 Program requirements.

(a) General. Grants under this subpart shall address priorities in the United States agriculture that involve integrated research, extension, and education activities as determined by the Secretary through Agency stakeholder input processes and in consultation with the Advisory Board.

(b) Duration of awards. The term of a grant under this subpart may not exceed 5 years.

Done at Washington, DC, this 30th day of August 2010.
Roger Beachy,
Director, National Institute of Food and Agriculture.

[FR Doc. 2010-22387 Filed 9-8-10; 8:45 am]

BILLING CODE 3410-22-P